DEPARTMENT OF HEALTH AND HUMAN SERVICES

National Institutes of Health

Announcement of National Eye Institute Participation in PA-11-347, “NINDS SBIR Technology Transfer (SBIR-TT [R43/R44])”

This notice is intended to inform potential applicants that the National Eye Institute (NEI) is participating in PA-11-347, “NINDS SBIR Technology Transfer (SBIR-TT [R43/R44]).” The NEI seeks SBIR applications for projects to transfer technologies out of the NIH intramural research labs into the private sector that address mechanisms, diseases, or disorders within the NEI mission.

Any project that fits within the NEI mission and relies on the use of an NIH intramural technology is eligible for this award. Please see the NEI technology transfer Web site for more details on NEI licensing opportunities: http://www.nei.nih.gov/resources/technologytransfer.asp.

For a complete listing of NIH intramural technologies which are available, please see NIH Office of Technology Transfer at: http://www.ott.nih.gov/Technologies/AbsSearchBox.aspx.

The NEI Division of Intramural Research performs high quality and innovative research in a variety of basic, translational, and clinical areas, including imaging, diagnostics, regenerative medicine, genetics/genomics, developmental biology, cellular and gene therapy, and cell and molecular biology related to eye health and eye disease treatments. For more information about the research and investigators in the NEI Division of Intramural Research, please see: http://www.nei.nih.gov/intramural/.

An NEI intramural investigator may provide assistance in a collaborative manner by providing technology, reagents and/or discussions during the SBIR award period; however, no SBIR funds are allowed to go to the NIH intramural investigator or the NIH intramural program.

All other aspects of the Funding Opportunity Announcement (FOA) remain unchanged.

Inquiries:

SBIR contact: Jerome Wujek, Ph.D., 5635 Fishers Lane; MSC 9300, Bethesda, MD 20892, (301) 451-2020, wujekjer@nei.nih.gov.

Licensing contact: Alan E. Hubbs, Ph.D., 6120 Executive Blvd., Bethesda, MD 20892, (301) 594-4263, hubbsa@mail.nih.gov.

(Catalogue of Federal Domestic Assistance Program Nos. 93.867, Vision Research, National Institutes of Health, HHS)

Dated: April 30, 2012.
David Whitmer,
Executive Officer, NEI, National Institutes of Health.

[FR Doc. 2012-11512 Filed 5-10-12; 8:45 am]

BILLING CODE 4140-01-P